DEPARTMENT OF LABOR

Employment and Training Administration

[TA-W-36, 151]

Adflex Solutions, Inc. (Now Known as Innovex) Chandler, AZ; Amending Certification Regarding Eligibility to Apply for Worker Adjustment Assistance

In accordance with section 223 of the Trade Act of 1974 (19 USC 2273) the Department of Labor issued a Certification of Eligibility to Apply for Worker Adjustment Assistance on August 17, 1999 applicable to workers of Adflex Solutions, Incorporated, Chandler, Arizona. The notice was published in the Federal Register on September 29, 1999 (64 FR 52540).

At the request of the State agency, the Department reviewed the certification for workers of the subject firm. The workers are engaged in employment related to the production of flexible circuits. New findings show that in September, 1999, Innovex, Incorporated purchased Adflex Solutions, Incorporated and became know as Innovex. Findings also show that workers separated from employment at the subject firm have their wages reported under a separate unemployment insurance (UI) tax account for Innovex.

Accordingly, the Department is amending the certification to correctly identify the new title name to read Adflex Solutions, Incorporated now known as Innovex, Chandler, Arizona.

The intent of the Department's certification is to include all workers of Adflex Solutions, Incorporated adversely affected by increased imports.

The intent of the Department's certification is to include all workers of Adflex Solutions, Incorporated adversely affected by increased imports.

The amended notice applicable to TA-W-36, 526 is hereby issued as follows:

All workers of Adflex Solutions, Incorporated, now know as Innovex, Chandler, Arizona who became totally or partially separated from employment on or after April 20, 1998 through August 17, 2001 are eligible to apply for adjustment assistance under section 223 of the Trade Act of 1974.

Signed at Washington, DC this 6th day of March, 2001.
Linda G. Poole,
Certification Officer, Division of Trade Adjustment Assistance.

[FR Doc. 01-6964 Filed 3-20-01; 8:45 am]

BILLING CODE 4510-30-M